DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (OFAC) is publishing the names of three individuals whose property and interests in property have been unblocked pursuant to the Foreign Narcotics Kingpin Designation Act (Kingpin Act) (21 U.S.C.s 1901-1908, 8 U.S.C. 1182). In addition, OFAC is updating the identifying information for one individual that was previously designated pursuant to the Kingpin Act.

DATES: The unblocking and removal from the list of Specially Designated Nationals and Blocked Persons (SDN List) of the individuals identified in this notice whose property and interests in property were blocked pursuant to the Kingpin Act, is effective on October 15, 2015.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On October 15, 2015, the Associate Director of the Office of Global Targeting removed from the SDN List the individuals listed below, whose property and interests in property were blocked pursuant to the Kingpin Act:

Individuals

1. CORTES VILLASENOR, Luis, Av. Vallarta No. 3060, Colonia Vallarta San Jorge, Guadalajara, Jalisco, Mexico; DOB 03 Mar 1971; POB Mexico City, Mexico; R.F.C. COVL7103034L4 (Mexico) (individual) [SDNTK] (Linked To: GRUPO FRACSA, S.A. DE C.V.; Linked To: GRUPO CONSTRUCTOR SEGUNDO MILENIO, S.A. DE C.V.).

2. MONTOYA ZAPATA, Catalina Alexandra, c/o BIO FORESTAL S.A., Medellin, Colombia; c/o GANADERIA LA SORGUITA S.A., Medellin, Colombia; c/o INVERPUNTO DEL VALLE S.A., Cali, Colombia; c/o PARQUES TEMATICOS S.A., Medellin, Colombia; c/o PROMO RAIZ S.A., Medellin, Colombia; DOB 28 Apr 1985; POB Yarumal, Antioquia, Colombia; Cedula No. 32299453 (Colombia) (individual) [SDNTK].

3. PACHECO PARRA, Ana Yesennia (a.k.a. PACHECO CHAVEZ, Ana Yesennia), c/o C.I. OKCOFFEE COLOMBIA S.A., Bogota, Colombia; c/o C.I. OKCOFFEE INTERNATIONAL S.A., Bogota, Colombia; c/o INVERPUNTO DEL VALLE S.A., Cali, Colombia; c/o PARQUES TEMATICOS S.A., Medellin, Colombia; c/o PROMO RAIZ S.A., Medellin, Colombia; Carrera 22A No. 159B-18 P-3, Bogota, Colombia; DOB 22 Feb 1982; POB Miraflores, Boyaca, Colombia; Cedula No. 52866649 (Colombia) (individual) [SDNTK].

Additionally, OFAC is updating the record of one individual who was previously identified pursuant to the Kingpin Act, 21 U.S.C. § 1904 (b)(1):

ALVAREZ TOSTADO, Jose (a.k.a. CASTELLANOS ALVAREZ TOSTADO, Juan Jose; a.k.a. GONZALEZ, Jose) (DOB 27 Aug 55; POB Mexico) (individual) [SDNTK]

The listing for this entity now appears as follows:

ALVAREZ TOSTADO, Jose (a.k.a. CASTELLANOS ALVAREZ TOSTADO, Juan Jose) (DOB 27 Aug 1955; POB Mexico; Nationality Mexican) (individual) [SDNTK]

Dated: October 15, 2015.
Gregory T. Gatjanis,
Associate Director, Office of Global Targeting, Office of Foreign Assets Control.

[FR Doc. 2015-26697 Filed 10-20-15; 8:45 am]

BILLING CODE 4810-AL-P